DEPARTMENT OF HEALTH AND HUMAN SERVICES

Centers for Disease Control and Prevention

[Docket No. CDC-2021-0118; NIOSH 248-I]

World Trade Center Health Program Scientific/Technical Advisory Committee (WTCHP STAC)

AGENCY: Centers for Disease Control and Prevention (CDC), Department of Health and Human Services (HHS).

ACTION: Notice of meeting and request for comment.

SUMMARY: In accordance with the Federal Advisory Committee Act, CDC announces the following virtual meeting for the World Trade Center Health Program Scientific/Technical Advisory Committee (WTCHP STAC). A notice of this WTCHP STAC meeting has also been posted on the committee website at: https://www.cdc.gov/wtc/stac_meeting.html.

DATES: The meeting will be held on November 18, 2021, from 11:00 a.m. to 4:00 p.m., EST. Comments must be received by November 18, 2021. Written public comment received prior to the meeting will be part of the official record of the meeting.

ADDRESSES: You may submit comments, identified by Docket No. CDC-2021-0118; NIOSH 248-I by mail. CDC does not accept comments by email.

• Federal eRulemaking Portal: https://www.regulations.gov. Follow the instructions for submitting comments.

• Mail: Docket number CDC-2021-0118; NIOSH 248-I, c/o Sherri Diana, NIOSH Docket Office, National Institute for Occupational Safety and Health, 1090 Tusculum Avenue, MS C-34, Cincinnati, Ohio 45226.

Instructions: All submissions received must include the Agency name and Docket Number (CDC-2021-0118; NIOSH 248-I). All relevant comments, including any personal information provided, will be posted without change to http://www.regulations.gov.

FOR FURTHER INFORMATION CONTACT: Tania Carreón-Valencia, Ph.D., Designated Federal Officer, World Trade Center Health Program, National Institute for Occupational Safety and Health, CDC, 1600 Clifton Road NE, MS R-12, Atlanta, GA 30329-4027, Telephone: (513) 841-4515; Email: wtc-stac@cdc.gov.

SUPPLEMENTARY INFORMATION:

Background: The WTCHP STAC was established by Title I of the James Zadroga 9/11 Health and Compensation Act of 2010, Public Law 111-347 (Jan. 2, 2011), as amended by Public Law 114-113 (Dec. 18, 2015) and Public Law 116-59 (Sept. 27, 2019), adding Title XXXIII to the Public Health Service (PHS) Act (codified at 42 U.S.C. 300mm to 300mm-61).

Purpose: The purpose of the WTCHP STAC is to review scientific and medical evidence and to make recommendations to the Administrator of the World Trade Center (WTC) Health Program regarding additional WTC Health Program eligibility criteria, potential additions to the List of WTC-Related Health Conditions (List), and research regarding certain health conditions related to the September 11, 2001, terrorist attacks.

Title XXXIII of the PHS Act established the WTC Health Program within the Department of Health and Human Services (HHS). The WTC Health Program provides medical monitoring and treatment benefits to eligible firefighters and related personnel, law enforcement officers, and rescue, recovery, and cleanup workers who responded to the September 11, 2001, terrorist attacks in New York City, at the Pentagon, and in Shanksville, Pennsylvania (responders), and to eligible persons who were present in the dust or dust cloud on September 11, 2001 or who worked, resided, or attended school, childcare, or adult daycare in the New York City disaster area (survivors). Certain specific activities of the Administrator of the WTC Health Program are reserved to the Secretary, HHS, to delegate at his discretion; other duties not explicitly reserved to the Secretary, HHS, are assigned to the Director of the National Institute for Occupational Safety and Health (NIOSH). The administration of the WTCHP STAC is left to the Director of NIOSH in his role as Administrator. CDC and NIOSH provide funding, staffing, and administrative support services for the WTCHP STAC. The charter was reissued on May 12, 2021 and will expire on May 12, 2023.

Matters To Be Considered: The agenda will include a presentation about revisions to the existing Policy and Procedures for Adding Types of Cancer to the List of WTC-Related Health Conditions, a report from the STAC workgroup regarding adding uterine cancer to the List, deliberations by the full committee on the STAC recommendation to the Administrator of the WTC Health Program on whether to add uterine cancer to the List, and recommendations on peer reviewers to review the evaluation of the evidence for adding the health condition to the List. The revised draft Policy and Procedures for Adding Types of Cancer to the List of WTC-Related Health Conditions is available on the WTC Health Program website at https://www.cdc.gov/wtc/stac_meeting.html. An agenda is also posted on the WTC Health Program website at https://www.cdc.gov/wtc/stac_meeting.html. Agenda items are subject to change as priorities dictate.

Meeting Information: This is a virtual meeting conducted via Zoom. The public is welcome to follow the proceedings via live webcast. No registration is required. The webcast link for November 18, 2021 is https://www.ustream.tv/channel/QyXBRzYjVCS. For additional information please visit the WTC Health Program website at https://www.cdc.gov/wtc/stac_meeting.html.

Public Participation

Interested parties may participate in this activity by submitting written views, opinions, recommendations, and data. You may submit comments on any topic related to this activity. Comments received, including attachments and other supporting materials, are part of the public record and subject to public disclosure. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted into the docket. CDC does not accept comment by email.

Oral Public Comment: The public is welcome to participate, via Zoom, during the public comment period on November 18, 2021, from 1:00 p.m. to 1:30 p.m., EST. Please note that the public comment period ends at the time indicated above. Each commenter will be provided up to five minutes for comment. A limited number of time slots are available and will be assigned on a first come-first served basis. Members of the public who wish to address the WTCHP STAC during the oral public comment sessions must sign up by providing their name to Mia Wallace, Committee Management Specialist, via email: MWallace@cdc.gov, or the addresses section provided in this notice by November 12, 2021.

Written Public Comment: Written comments will also be accepted per the instructions provided in the addresses section above. Written public comment received prior to the meeting will be part of the official record of the meeting. The docket will close on November 18, 2021.

Policy on Redaction of Committee Meeting Transcripts (Public Comment): Transcripts will be prepared and posted to http://www.regulations.gov within 60 days after the meeting. If a person making a comment gives their name, no attempt will be made to redact that name. NIOSH will take reasonable steps to ensure that individuals making public comments are aware that their comments (including their name, if provided) will appear in a transcript of the meeting posted on a public website. Such reasonable steps include a statement read at the start of the meeting stating that transcripts will be posted, and names of speakers will not be redacted. If individuals in making a statement reveal personal information (e.g., medical information) about themselves, that information will not usually be redacted. The CDC Freedom of Information Act coordinator will, however, review such revelations in accordance with the Freedom of Information Act and, if deemed appropriate, will redact such information. Disclosures of information concerning third party medical information will be redacted.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-23684 Filed 10-29-21; 8:45 am]

BILLING CODE 4163-18-P